EQUAL EMPLOYMENT OPPORTUNITY COMMISSION

Agency Information Collection Activities: Existing Collection

AGENCY: Equal Employment Opportunity Commission.

ACTION: Notice of information collection—extension without change: State and Local Government Information Report (EEO-4).

SUMMARY: In accordance with the Paperwork Reduction Act of 1995 (PRA), the Equal Employment Opportunity Commission (EEOC or Commission) announces that it is submitting to the Office of Management and Budget (OMB) a request for a three-year extension without change of the State and Local Government Information Report (EEO-4) as described below.

DATES: Written comments on this notice are encouraged and must be submitted on or before June 28, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Margaret Noonan, Employer Data Team, Data Development and Information Products Division, Equal Employment Opportunity Commission, 131 M Street NE, Room 4SW32J, Washington, DC 20507; (202) 921-2928 (voice), (800) 669-6820 (TTY) or email at margaret.noonan@eeoc.gov.

SUPPLEMENTARY INFORMATION: A notice that the EEOC would be submitting this request was published in the Federal Register on January 19, 2021, allowing for a 60-day public comment period. No comments were received from the public during the 60-day public comment period.

Overview of Information Collection

Collection Title: State and Local Government Information Report (EEO-4).

OMB Number: 3046-0008.

Frequency of Report: Biennial, odd years.

Type of Respondent: State and local governments with 100 or more employees within the 50 U.S. states and District of Columbia.

Description of Affected Public: State and local governments with 100 or more employees within the 50 U.S. states and District of Columbia.

Reporting Hours: 95,542 per biennial collection.

Burden Hour Cost: $4,719,509.02 per biennial collection.

Federal Cost: $386,609.20 per biennial collection.

Number of Respondents: 5,687.

Number of Responses: 13,649.

Number of Forms: 1.

Form Number: EEOC Form 164.

Abstract: Section 709(c) of Title VII of the Civil Rights Act of 1964, as amended, 42 U.S.C. 2000e-8(c), requires State and local governments to make and keep records relevant to a determination of whether unlawful employment practices have been or are being committed and produce reports required by the EEOC. Accordingly, the EEOC issued regulations, 29 CFR 1602.30 and 1602.32-.37, which set forth the reporting requirements and related record retention policies for State and local governments. 29 CFR 1602.30 requires every covered State and local government to make or keep all records necessary for completion of an EEO-4 submission and retain those records for three years. 29 CFR 1602.32 requires filers to retain a copy of each filed EEO-4 report for three years. These requirements are related to recordkeeping, which is part of standard administrative practices, and as a result, the EEOC believes that any impact on burden would be negligible and nearly impossible to quantify. State and local governments with 100 or more employees have been required to submit EEO-4 reports since 1974 (biennially since 1993). The EEOC uses EEO-4 data for research and to investigate charges of discrimination. The individual reports are confidential.

Burden Statement: The methodology for calculating annual burden reflects the different staff that are responsible for preparing and filing the EEO-4. These estimates are based on the estimated submission time of 7 hours per reporting unit, as published in the 2018 EEO-4 Information Collection Review as required by the Paperwork Reduction Act.¹ The EEOC accounts for time to be spent biennially on EEO-4 reporting by senior and administrative staff, as well as time spent by computer support specialists, executive administrative staff, and payroll and human resource professionals; the revised estimate also includes attorneys who may consult briefly during the reporting process. The estimated number of respondents included in the biennial EEO-4 data collection is 5,687 State and local governments, as this is the average number of reporting units between 2005 and 2019. These 5,687 respondents will submit an estimated 13,649 reports during each biennial reporting cycle. The estimated hour burden per report will be 7 hours, and the estimated total biennial respondent burden hours will be 95,542. Burden hour cost was calculated using median hourly wage rates for administrative staff and legal counsel, and average hourly wage rates for State and local government staff. The burden hour cost per report will be $214.77, and the estimated total burden hour cost per biennial collection will be $4,719,509.02 (See Table 1 for calculations).

¹ For more information, please see: https://www.reginfo.gov/public/do/PRAViewICR?ref_nbr=201804-3046-001.

Table 1—Estimate of Biennial Burden for EEO-4 Report
| Hourly wage rate 2 | Burden hours per government entity | Cost per government entity | Total burden hours | Total burden hour cost 3
| Number of Reporting Units = 5,687 |  |  | Number of Records Submitted = 13,649
Chief Executive | $52.90 | 0.35 | $18.52 | 4,777.1 | $88,447.64
Legal Counsel | 50.50 | 0.35 | 17.68 | 4,777.1 | 84,434.89
Computer Support Specialist (IT Professional) | 29.75 | 0.7 | 20.83 | 9,554.2 | 198,965.38
Executive Administrative Staff | 27.40 | 1.4 | 38.36 | 19,108.3 | 732,995.16
Human Resource Specialist | 32.59 | 2.45 | 79.85 | 33,439.6 | 2,669,998.39
Payroll Clerks | 22.60 | 1.75 | 39.55 | 23,885.4 | 944,667.57
Total | N/A | 7 | 214.77 | 95,542 | 4,719,509.02

These estimates are based upon filers' use of the EEO-4 online filing system to submit reports. The EEOC has made online electronic submission much easier for respondents required to file the EEO-4 Report and as a result, more respondents are using this electronic filing method. During the 2019 EEO-4 data collection cycle, 4,988 EEO-4 filers completed and certified their submission. Of the 4,988 EEO-4 filers who submitted data in 2019, 4 percent uploaded a data file, 92 percent filed through the online application, and 4 percent submitted paper records. Electronic filing remains the most efficient, accurate, and secure means of reporting for respondents required to submit the EEO-4 report. Accordingly, the EEOC will continue to encourage EEO-4 filers to submit data through online electronic filing and will only accept paper records from filers who have secured permission to submit data via paper submission.

² Occupational titles and wages are from the Bureau of Labor Statistics' National Industry-Specific Occupational Employment and Wage Estimates—NAICS 999000—Federal, State, and local Government, excluding state and local schools and hospitals and the U.S. Postal Service: https://www.bls.gov/oes/current/naics3_999000.htm#11-0000. The wages cited are median hourly wages.

³ Burden hour cost is estimated by multiplying the `Cost per government entity' column by the `Total burden hours' column.

Dated: May 22, 2021.
For the Commission.
Charlotte A. Burrows,
Chair.

[FR Doc. 2021-11228 Filed 5-26-21; 8:45 am]

BILLING CODE 6570-01-P